DEPARTMENT OF TRANSPORTATION

Federal Aviation Administration

14 CFR Part 39

[Docket No. FAA-2012-0355; Directorate Identifier 2011-SW-013-AD; Amendment 39-17007; AD 2012-07-01]

RIN 2120-AA64

Airworthiness Directives; Agusta S.p.A. Helicopters

AGENCY: Federal Aviation Administration (FAA), Department of Transportation (DOT).

ACTION: Final rule; request for comments.

SUMMARY: We are adopting a new airworthiness directive (AD) for Agusta S.p.A. (Agusta) Model AB412 helicopters with certain tail rotor blades (blades) installed. This AD requires, before further flight, removing and replacing each affected blade with an airworthy blade. This AD is prompted by incidents where a blade tip weight separated from a blade in flight on other model helicopters with common part-numbered blades. It has been determined that this unsafe condition may also exist on the specified Agusta model helicopters. The actions specified in this AD are intended to prevent loss of the blade tip weight, loss of a blade, and subsequent loss of control of the helicopter.

DATES: This AD becomes effective April 20, 2012.

We must receive comments on this AD by June 4, 2012.

ADDRESSES: You may send comments by any of the following methods:

• Federal eRulemaking Docket: Go to http://www.regulations.gov. Follow the online instructions for sending your comments electronically.

• Fax: (202) 493-2251.

• Mail: Send comments to the U.S. Department of Transportation, Docket Operations, M-30, West Building Ground Floor, Room W12-140, 1200 New Jersey Avenue SE., Washington, DC 20590-0001.

• Hand Delivery: Deliver to the “Mail” address between 9 a.m. and 5 p.m., Monday through Friday, except Federal holidays.

Examining the AD Docket: You may examine the AD docket on the Internet at http://www.regulations.gov or in person at the Docket Operations Office between 9 a.m. and 5 p.m., Monday through Friday, except Federal holidays. The AD docket contains this AD, any comments received, and other information. The street address for the Docket Operations Office (telephone (800) 647-5527) is in the ADDRESSES section. Comments will be available in the AD docket shortly after receipt.

For service information identified in this AD, contact Agusta Westland, Customer Support & Services, Via Per Tornavento 15, 21019 Somma Lombardo (VA) Italy, ATTN: Giovanni Cecchelli; telephone 39-0331-711133; fax 39 0331 711180; or at http://www.agustawestland.com/technical-bullettins. You may review a copy of the referenced service information at the FAA, Office of the Regional Counsel, Southwest Region, 2601 Meacham Boulevard, Room 663, Fort Worth, Texas 76137.

FOR FURTHER INFORMATION CONTACT: Sharon Miles, Aviation Safety Engineer, Regulations and Policy Group, Rotorcraft Directorate, FAA, 2601 Meacham Blvd., Fort Worth, TX 76137; telephone (817) 222-5110; email sharon.y.miles@faa.gov.

SUPPLEMENTARY INFORMATION:

Comments Invited

This AD is a final rule that involves requirements affecting flight safety, and we did not provide you with notice and an opportunity to provide your comments prior to it becoming effective. However, we invite you to participate in this rulemaking by submitting written comments, data, or views. We also invite comments relating to the economic, environmental, energy, or federalism impacts that resulted from adopting this AD. The most helpful comments reference a specific portion of the AD, explain the reason for any recommended change, and include supporting data. To ensure the docket does not contain duplicate comments, commenters should send only one copy of written comments, or if comments are filed electronically, commenters should submit them only one time. We will file in the docket all comments that we receive, as well as a report summarizing each substantive public contact with FAA personnel concerning this rulemaking during the comment period. We will consider all the comments we receive and may conduct additional rulemaking based on those comments.

Discussion

The European Aviation Safety Agency (EASA), which is the Technical Agent for the Member States of the European Union, has issued EASA Emergency AD No.: 2010-0272-E, dated December 22, 2010 (EAD 2010-0272-E), to correct an unsafe condition for the Agusta Model AB204B, AB205A-1, AB206A, AB206B, AB212, AB412 and AB412EP helicopters. EASA advises that Rotor Blades Inc. (RBI) informed Bell Helicopter Textron Inc. (BHTI) about four incidents of a blade tip weight separating from a blade in flight, and the subsequent investigation showed that these occurrences were caused by improper repair actions by RBI. EASA states that to address this safety concern, BHTI issued several alert service bulletins (ASBs) applicable to U.S. and Canada manufactured Bell type designs. In response to these ASBs, Transport Canada issued Emergency AD CF-2007-21R1 (dated November 30, 2010), and the FAA issued Emergency AD 2010-26-52 (dated December 10, 2010). EASA states that although the unsafe condition has been detected only on parts manufactured by BHTI and installed on BHTI helicopters, the possibility exists, due to part number commonality between the rotor blade type designs, that the affected parts may be installed on corresponding Agusta helicopter types, among others, for helicopter models not type certificated in the U.S. Agusta has issued Bollettino Tecnico (BT) 412-130, dated December 20, 2010 (BT 412-130), to inform affected owners and operators of this unsafe condition, and EASA issued EAD 2010-0272-E in response to the BT to address this unsafe condition.

FAA's Determination

These helicopters have been approved by the aviation authority of Italy and are approved for operation in the United States. Pursuant to our bilateral agreement with Italy, EASA, its technical representative, has notified us of the unsafe condition described in the EASA AD. We are issuing this AD because we evaluated all information provided by EASA and determined the unsafe condition exists and is likely to exist or develop on other helicopters of these same type designs.

Related Service Information

We reviewed BT 412-130, which references Bell Helicopter ASB No. 412-07-123 Revision B, dated November 22, 2010, and specifies removing any affected tail rotor blade, returning the removed blade to Agusta, and replacing it with an airworthy blade. EASA classified this BT as mandatory and issued EAD 2010-0272-E to ensure the continued airworthiness of these helicopters.

AD Requirements

This AD requires, before further flight, unless already accomplished, replacing any affected blade with an airworthy blade. An airworthy blade is one that has a part number and a serial number not included in the Applicability section of this AD. Affected blades are those having a part number and serial number as follows:

Part No. | Serial No.
212-010-750-105 | A-11923.
212-010-750-105FM | A-10090, A-10836, A-10857, A-11207, A-11332, A-11617, A-11828, A-12043, or A-12091.
212-010-750-113 | A-14953, A-15090, or CS-12702.
212-010-750-113FM | A-12240, A-12286, A-12296, A-12398, A-12640, A-12670, A-12789, A-13033, A-13088 A-13096, A-13106 A-13134, A-13199, A-13264, A-13366, or A-13539.
212-010-750-133 | A-15602.

No helicopters of this type are registered in the United States. However, this rule is necessary to ensure that the described unsafe condition is addressed if any of these products are placed on the U.S. Registry in the future.

Differences Between This AD and the EASA AD

EASA AD 2010-0272-E applies to Agusta S.p.A. Model AB204B, AB205A-1, AB206A, AB212, AB412, and AB412EP helicopters. This AD only applies to the U.S. type certificated Agusta Model AB412 helicopters.

Costs of Compliance

There are no costs of compliance because no helicopters of this type design are on the U.S. Registry.

FAA's Justification and Determination of the Effective Date

Since there are currently no affected helicopters on the U.S. Registry, we believe it is unlikely that we would receive any adverse comments or useful information about this AD from U.S. Operators. Since an unsafe condition exists that requires the immediate adoption of this AD, we have determined that notice and opportunity for prior public comment before issuing this AD are unnecessary and that good cause exists for making this amendment effective in less than 30 days.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national Government and the States, or on the distribution of power and responsibilities among the various levels of government.

For the reasons discussed, I certify that this AD:

1. Is not a “significant regulatory action” under Executive Order 12866;

2. Is not a “significant rule” under DOT Regulatory Policies and Procedures (44 FR 11034, February 26, 1979);

3. Will not affect intrastate aviation in Alaska to the extent that it justifies making a regulatory distinction; and

4. Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new Airworthiness Directive (AD):

2012-07-01 Agusta S.p.A.: Amendment 39-17007; Docket No. FAA-2012-0355; Directorate Identifier 2011-SW-013-AD.

(a) Applicability

This AD applies to Agusta S.p.A. Model AB412 helicopters with the following tail rotor blades installed:

Part No. | Serial No.
212-010-750-105 | A-11923.
212-010-750-105FM | A-10090, A-10836, A-10857, A-11207, A-11332, A-11617, A-11828, A-12043, or A-12091.
212-010-750-113 | A-14953, A-15090, or CS-12702.
212-010-750-113FM | A-12240, A-12286, A-12296, A-12398, A-12640, A-12670, A-12789, A-13033, A-13088, A-13096, A-13106, A-13134, A-13199, A-13264, A-13366, or A-13539.
212-010-750-133 | A-15602.

(b) Unsafe Condition

This AD defines the unsafe condition as separation of the tail rotor blade (blade) tip weight from a blade in flight, causing vibration. This condition could result in loss of a tail rotor blade and subsequent loss of control of the helicopter.

(c) Effective Date

This airworthiness directive (AD) becomes effective April 20, 2012.

(d) Compliance

You are responsible for performing each action required by this AD within the specified compliance time unless it has already been accomplished prior to that time.

(e) Required Actions

Before further flight, replace any affected blade with an airworthy blade, defined as one that has a part number and a serial number not listed in the Applicability section of this AD.

(f) Alternative Methods of Compliance (AMOCs)

(1) The Manager, Safety Management Group, FAA, may approve AMOCs for this AD. Send your proposal to: Sharon Miles, Aviation Safety Engineer, Regulations and Policy Group, Rotorcraft Directorate, FAA, 2601 Meacham Blvd., Fort Worth, TX 76137; telephone (817) 222-5110; email sharon.y.miles@faa.gov.

(2) For operations conducted under a Part 119 operating certificate or under Part 91, Subpart K, we suggest that you notify your principal inspector, or lacking a principal inspector, the manager of the local flight standards district office or certificate holding district office, before operating any aircraft complying with this AD through an AMOC.

(g) Additional Information

(1) Agusta Bollettino Tecnico 412-130, dated December 20, 2010, which is not incorporated by reference, contains additional information about the subject of this AD. For service information identified in this AD, contact Agusta Westland, Customer Support & Services, Via Per Tornavento 15, 21019 Somma Lombardo (VA) Italy, ATTN: Giovanni Cecchelli; telephone 39-0331-711133; fax 39 0331 711180; or at http://www.agustawestland.com/technical-bullettins. You may review a copy of the referenced service information at the FAA, Office of the Regional Counsel, Southwest Region, 2601 Meacham Blvd., Room 663, Fort Worth, Texas 76137.

(2) The subject of this AD is addressed in the European Aviation Safety Agency Emergency AD No.: 2010-0272-E, dated December 22, 2010.

(h) Subject

Joint Aircraft Service Component (JASC) Code: 6410, tail rotor blades.

Issued in Fort Worth, Texas, on March 26, 2012.
Scott A. Horn,
Acting Manager, Rotorcraft Directorate, Aircraft Certification Service.

[FR Doc. 2012-8058 Filed 4-4-12; 8:45 am]

BILLING CODE 4910-13-P